DEPARTMENT OF HEALTH AND HUMAN SERVICES

Administration for Children and Families

State Median Income Estimate for a Four-Person Family (FFY 2005); Notice of the Federal Fiscal Year (FFY) 2005 State Median Income Estimates for Use Under the Low Income Home Energy Assistance Program (LIHEAP) Administered by the Administration for Children and Families, Office of Community Services, Division of Energy Assistance

AGENCY: Office of Community Services, ACF, DHHS.

ACTION: Notice of estimated State median income estimates for FFY 2005.

SUMMARY: This notice announces the estimated median income for four-person families in each State and the District of Columbia for FFY 2005 (October 1, 2004 to September 30, 2005). LIHEAP grantees may adopt the State median income estimates beginning with the date of this publication of the estimates in the Federal Register or at a later date as discussed below. This means that LIHEAP grantees could choose to implement this notice during the period between the heating and cooling seasons. However, by October 1, 2004, or by the beginning of a grantee's fiscal year, whichever is later, LIHEAP grantees using State median income estimates must adjust their income eligibility criteria to be in accord with the FFY 2005 State median income estimates.

This listing of estimated State median incomes provides one of the maximum income criteria that LIHEAP grantees may use in determining a household's income eligibility for LIHEAP.

EFFECTIVE DATE: The estimates are effective at any time between the date of this publication and October 1, 2004, or by the beginning of a LIHEAP grantee's fiscal year, whichever is later.

FOR FURTHER INFORMATION CONTACT: Leon Litow, Administration for Children and Families, DHHS, Office of Community Services, Division of Energy Assistance, 5th Floor West, 370 L'Enfant Promenade, SW., Washington, DC 20447, Telephone: (202) 401-5304, E-Mail: llitow@acf.hhs.gov.

SUPPLEMENTARY INFORMATION: Under the provisions of section 2603(7) of Title XXVI of the Omnibus Budget Reconciliation Act of 1981 (Pub. L. 97-35, as amended), we are announcing the estimated median income of a four-person family for each State, the District of Columbia, and the United States for FFY 2005 (the period of October 1, 2004, through September 30, 2005).

Section 2605(b)(2)(B)(ii) of the LIHEAP statute provides that 60 percent of the median income for each State, as annually established by the Secretary of the Department of Health and Human Services, is one of the income criteria that LIHEAP grantees may use in determining a household's eligibility for LIHEAP.

LIHEAP is currently authorized through the end of FFY 2005 by the Coats Human Services Reauthorization Act of 1998, Pub. L. 105-285, which was enacted on October 27, 1998.

Estimates of the median income of a four-person family for each State and the District of Columbia for FFY 2005 have been developed by the Census Bureau of the U.S. Department of Commerce, using the most recently available income data. In developing the median income estimates for FFY 2005, the Census Bureau used the following three sources of data: (1) The Current Population Survey's 2003 Annual Social and Economic Supplement File; (2) the 2000 Decennial Census of Population; and (3) 2002 per capita personal income estimates, by State, from the Bureau of Economic Analysis (BEA) of the U.S. Department of Commerce.

For further information on the estimating method and data sources, contact the Housing and Household Economic Statistics Division, at the Census Bureau (301-763-3243).

A State-by-State listing of median income, and 60 percent of median income, for a four-person family for FFY 2005 follows. The listing describes the method for adjusting median income for families of different sizes as specified in regulations applicable to LIHEAP, at 45 CFR 96.85(b), which was published in the Federal Register on March 3, 1988 at 53 FR 6824.

Dated: March 11, 2004.
Clarence H. Carter,
Director, Office of Community Services.

Estimated State Median Income for a Four-Person Family, By State, Federal Fiscal Year 2004 ¹
States | Estimated state median income for a four-person family ² | 60 percent of estimated State median income for a four person family
Alabama | $53,754 | $32,252
Alaska | 69,868 | 41,921
Arizona | 56,857 | 34,114
Arkansas | 49,551 | 29,731
California | 65,766 | 39,460
Colorado | 68,089 | 40,853
Connecticut | 81,891 | 49,135
Delaware | 69,469 | 41,681
Dist. of Col. | 55,692 | 33,415
Florida | 57,473 | 34,484
Georgia | 60,676 | 36,406
Hawaii | 67,564 | 40,538
Idaho | 54,279 | 32,567
Illinois | 69,168 | 41,501
Indiana | 63,022 | 37,813
Iowa | 61,238 | 36,743
Kansas | 61,926 | 37,156
Kentucky | 54,030 | 32,418
Louisiana | 52,299 | 31,379
Maine | 58,802 | 35,281
Maryland | 77,938 | 46,763
Massachusetts | 78,312 | 46,987
Michigan | 67,995 | 40,797
Minnesota | 72,379 | 43,427
Mississippi | 47,847 | 28,708
Missouri | 59,764 | 35,858
Montana | 51,791 | 31,075
Nebraska | 60,129 | 36,077
Nevada | 59,588 | 35,753
New Hampshire | 72,369 | 43,421
New Jersey | 82,406 | 49,444
New Mexico | 48,422 | 29,053
New York | 65,461 | 39,277
North Carolina | 58,227 | 34,936
North Dakota | 57,070 | 34,242
Ohio | 63,934 | 38,360
Oklahoma | 51,377 | 30,826
Oregon | 60,262 | 36,157
Pennsylvania | 64,310 | 38,586
Rhode Island | 67,646 | 40,588
South Carolina | 56,110 | 33,666
South Dakota | 55,359 | 33,215
Tennessee | 55,605 | 33,363
Texas | 56,278 | 33,767
Utah | 59,864 | 35,918
Vermont | 62,331 | 37,399
Virginia | 66,889 | 40,133
Washington | 66,531 | 39,919
West Virginia | 47,550 | 28,530
Wisconsin | 66,988 | 40,193
Wyoming | 57,148 | 34,289
Note—FFY 2005 covers the period of October 1, 2004 through September 30, 2005. The estimated median income for a four-person family living in the United States is $62,732 for FFY 2005. The estimates are effective for the Low Income Home Energy Assistance Program (LIHEAP) at any time between the date of this publication and October 1, 2004, or by the beginning of a LIHEAP grantee's fiscal year, whichever is later.
¹ In Accordance with 45 CFR 96.85, each State's estimated median income for a four-person family is multiplied by the following percentages to adjust for family size: 52 percent for one person, 68 percent for two persons, 84 percent for three persons, 100 percent for four persons, 116 percent for five persons, and 132 percent for six persons. For each additional family member above six persons, add 3 percent to the percentage for a six-person family (132 percent), and multiply the new percentage by the State's estimated median income for a four-person family.
² Prepared by The Census Bureau from the Current Population Survey's 2003 Annual Social and Economic Supplement File, 2000 Decennial Census of Population and Housing, and 2002 per capita personal income estimates, by State, from the Bureau of Economic Analysis (BEA). For further information, contact the Housing and Household Economic Statistics Division at the Census Bureau (301-763-3243).

[FR Doc. 04-5931 Filed 3-16-04; 8:45 am]

BILLING CODE 4184-01-P